DEPARTMENT OF THE INTERIOR

Bureau of Land Management

[LLAK910000-L13100000.PP0000-L.X.SS.052L0000]

Notice of Public Meeting, BLM-Alaska Resource Advisory Council; Correction

AGENCY: Bureau of Land Management, Alaska State Office, Interior.

ACTION: Notice of public meeting; correction.

SUMMARY: The Bureau of Land Management (BLM) published a document in the Federal Register of October 24, 2011, concerning announcement of the BLM Alaska Resource Advisory Council (RAC) meeting on November 29 and 30, 2011. The document contained incorrect dates and times.

FOR FURTHER INFORMATION CONTACT: Thom Jennings, (907) 271-3335.

Correction

In the Federal Register of October 24, 2011, in FR Doc. 2011-27394, on page 65747, in the third column, correct the DATES caption to read:

DATES: The meeting will be held November 29 and 30, 2011, at the Fairbanks Princess Riverside Lodge, 4477 Pikes Landing Road, Fairbanks, Alaska 99709-4619. On November 29, the meeting starts at 9:30 a.m. in the Jade meeting room and the council will accept public comment from 3:30 p.m.-4:30 p.m. On November 30, the meeting begins in the same location at 9 a.m.

Dated: November 4, 2011.
Bud C. Cribley,
Acting State Director.

[FR Doc. 2011-29120 Filed 11-9-11; 8:45 am]

BILLING CODE 4310-JA-P